DEPARTMENT OF HEALTH AND HUMAN SERVICES

Centers for Disease Control and Prevention

Draft Guideline for Disinfection and Sterilization in Healthcare Facilities

AGENCY: Centers for Disease Control and Prevention (CDC), Department of Health and Human Services (DHHS).

ACTION: Notice of availability and request for public comment.

SUMMARY: This notice is a request for review of and comment on the Draft Guideline for Disinfection and Sterilization in Healthcare Facilities, 2003, available on the CDC website at www.cdc.gov/ncidod/hip/dsguide.htm. The guideline has been developed for practitioners who provide care for patients and who are responsible for monitoring and preventing infections in healthcare settings, especially those involved in sterilizing and disinfecting medical devices and surgical instruments. The guideline is intended to replace the section in Guideline for Handwashing and Hospital Environmental Control, 1985, that dealt with sterilization and disinfection.

DATES: Comments on the Draft Guideline for Disinfection and Sterilization in Healthcare Facilities, 2003 must be received in writing on or before June 14, 2002.

FOR FURTHER INFORMATION CONTACT: Requests for copies of the Draft Guideline for Sterilization and Disinfection in Healthcare Facilities, 2003 should be submitted to the Resource Center, Attention: DSGuide, Division of Healthcare Quality Promotion, CDC, Mailstop E-68, 1600 Clifton Rd., NE, Atlanta, Georgia 30333; fax 404 498-1244; e-mail: dsrequests@cdc.gov; or Internet: www.cdc.gov/ncidod/hip/dsguide.htm.

ADDRESSES: Comments on the Draft Guideline for Disinfection and Sterilization in Healthcare Facilities, 2003 should be submitted to the Resource Center, Attention: DSGuide, Division of Healthcare Quality Promotion, CDC, Mailstop E-68, 1600 Clifton Road, NE., Atlanta, Georgia 30333; fax 404 498-1244; e-mail: dscomments@cdc.gov; or Internet: www.cdc.gov/ncidod/hip/dsguide.htm.

SUPPLEMENTARY INFORMATION: The Draft Guideline for Disinfection and Sterilization in Healthcare Facilities, 2003 presents a pragmatic approach to the judicious selection and proper use of disinfection and sterilization processes in healthcare settings. The guideline is intended to assist healthcare personnel in preventing infections associated with contaminated medical devices or surgical instruments and is targeted to infection control professionals, infectious disease clinicians, physicians who perform endoscopic procedures (e.g., gastroenterologists, pulmonologists), central processing technicians, sterile processing technicians, operating room nurses and technicians, manufacturers of disinfection and sterilization equipment, and manufacturers of reusable medical devices.

Part 1 of the two-part document provides information on chemical disinfectants recommended for patient-care equipment; these disinfectants include alcohol, glutaraldehyde, hydrogen peroxide, iodophors, ortho-phthalaldehyde, peracetic acid, phenolics, quaternary ammonium compounds, and sodium hypochlorite. Sterilization methods discussed include steam sterilization, ethylene oxide, hydrogen peroxide gas plasma, and liquid peracetic acid. Part 2 of the document provides consensus recommendations of the Healthcare Infection Control Practices Advisory Committee (HICPAC) for the practice of disinfection and sterilization in healthcare settings. Most recommendations are pertinent for the inpatient, outpatient, and home care setting, unless otherwise noted.

HICPAC was established in 1991 to provide advice and guidance to the Secretary and the Assistant Secretary for Health, DHHS; the Director, CDC; and the Director, National Center for Infectious Diseases, regarding the practice of infection control and strategies for surveillance, prevention, and control of healthcare-associated infections in U.S. healthcare facilities. The committee advises CDC on guidelines and other policy statements regarding prevention of healthcare-associated infections and related adverse events.

Dated: April 24, 2002.
James D. Seligman,
Associate Director for Program Services, Centers for Disease Control and Prevention.

[FR Doc. 02-10550 Filed 4-29-02; 8:45 am]

BILLING CODE 4163-18-P